Title 3—

The President

Proclamation 7797 of June 19, 2004

Father's Day, 2004

By the President of the United States of America

A Proclamation

A special bond exists between a father and his children. On Father's Day, we recognize the important role fathers play in the American family, and we honor them for their strength, love, and commitment.

After listening to a church service on Mother's Day 1909, Sonora Dodd proposed a day to honor fathers. She was inspired by the courage and sacrifice of her own father, a Civil War veteran, who reared six children by himself after his wife's death. As others began to celebrate it, the idea for Father's Day spread across America. In 1966, President Lyndon Johnson officially proclaimed Father's Day as a national observance.

Fathers have a duty to love their children with all their hearts and prepare them to be independent, compassionate, and responsible citizens. A father's words and actions are critical in shaping the character of his children. A father's love helps teach them right from wrong, explains to them the consequences of bad decisions, and strengthens them with encouragement.

As we honor our fathers on this day, we express our heartfelt appreciation for their leadership, support, and protection for their children and families. We particularly recognize the many fathers who are far from home, serving our Nation and defending the cause of freedom around the world. They have answered a great call and live by a code of honor and duty that serves as an example for their sons and daughters and for all Americans.

NOW, THEREFORE, I, GEORGE W. BUSH, President of the United States of America, in accordance with a joint resolution of the Congress approved April 24, 1972, as amended (36 U.S.C. 109), do hereby proclaim June 20, 2004, as Father's Day. I encourage all Americans to express love, admiration, and thanks to their fathers for their contributions to our lives and to society. I direct the appropriate officials of the Government to display the flag of the United States on all Government buildings on this day. I also call upon State and local governments and citizens to observe this day with appropriate programs, ceremonies, and activities.

IN WITNESS WHEREOF, I have hereunto set my hand this nineteenth day of June, in the year of our Lord two thousand four, and of the Independence of the United States of America the two hundred and twenty-eighth.

B

[FR Doc. 04-14419

Filed 6-22-04; 9:14 am]

Billing code 3195-01-P